DEPARTMENT OF THE TREASURY

Submission for OMB Review; Comment Request

June 24, 2004.

The Department of the Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before July 30, 2004 to be assured of consideration. The TRIP forms can be reviewed at http://www.treas.gov/trip.

Departmental Offices/Terrorism Risk Insurance Program (TRIP)

OMB Number: New.

Form Numbers: TRIP 01 and TRIP 02.

Type of Review: New collection.

Title: Terrorism Risk Insurance Program Loss Reporting.

Description: Information collection made necessary by the Terrorism Risk Insurance Act of 2002 and Treasury implementing regulations to pay Federal share to commercial property and casualty insurers for terrorism losses.

Respondents: Business or other for-profit, Not-for-profit institutions.

Estimated Number of Respondents/Recordkeepers: 100.

Estimated Burden Hours per Respondent/Recordkeeper: 28 hours, 45 minutes.

Frequency of Response: On occasion.

Estimated Total Reporting/Recordkeeping Burden: 4,200 hours.

Clearance Officer: Lois K. Holland, (202) 622-1563, Departmental Offices, Room 2110, 1425 New York Avenue, NW., Washington, DC 20220.

OMB Reviewer: Joseph F. Lackey, Jr., (202) 395-7316, Office of Management and Budget, Room 10235, New Executive Office Building, Washington, DC 20503.

Lois K. Holland,
Treasury PRA Clearance Officer.

[FR Doc. 04-14794 Filed 6-29-04; 8:45 am]

BILLING CODE 4811-16-P